DEPARTMENT OF COMMERCE

National Oceanic and Atmospheric Administration

[Docket No. 060313063-6104-02; I.D. 042006C]

Financial Assistance to Administer NOAA's Faculty and Student Intern Research Program and Notice of Availability of Funds and Solicitation for Proposals for These Funds; Extension of Application Deadline

AGENCY: National Oceanic and Atmospheric Administration (NOAA), Department of Commerce.

ACTION: Notice of Availability of Student Intern Research Program funding.

SUMMARY: NOAA publishes this notice to extend the solicitation period for proposals for NOAA's Faculty and Student Intern Research Program. Proposals are solicited from non-profit organizations who would design and provide administrative services, such as provide training, educational, and research opportunities to faculty, as well as graduate and undergraduate students pursuing degrees related to NOAA's mission. This solicitation was originally announced in the Federal Register on March 30, 2006. The solicitation period for this program was extended to provide the public more time to submit proposals.

DATES: Proposals must be received no later than 5 p.m., eastern daylight time, May 9, 2006.

ADDRESSES: It is strongly encouraged that applications submitted in response to this announcement are submitted through the Grants.gov Web site. Electronic access to the Full Funding Opportunity Announcement for this program is available via the Grants.gov Web site: http://www.grants.gov. Applicants must comply with all requirements contained in the Full Funding Opportunity Announcement. Paper applications (a signed original and two copies) may also be submitted to the following address: NOAA Civil Rights Office/OFA51,1305 East West Highway, Room 12222, Silver Spring, MD 20910. No facsimile or electronic mail applications will be accepted.

FOR FURTHER INFORMATION CONTACT: Victoria G. Dancy, NOAA Civil Rights Office/OFA51, 1305 East West Highway, Room 12222, Silver Spring, MD 20910, or by phone at (301) 713-0500, ext. 136.

SUPPLEMENTARY INFORMATION: On March 30, 2006, NOAA published a Notice of Availability of Funds and Solicitation for Proposals for these Funds for the NOAA Faculty and Student Intern Research Program (71 FR 16125). NOAA publishes this notice to extend the solicitation period that was originally announced in the Federal Register. NOAA extends the solicitation period from April 26, 2006 to May 9, 2006 to provide the public more time to submit proposals. All other requirements for this solicitation remain the same.

Funding Availability

The Office of Civil Rights anticipates that funding will be available at $250,000 to $300,000 a year for a 3-year period. The proposal is limited to a total of $900,000 for a maximum of 3 years and one proposal will be funded. Up to 25 percent of $300,000 is allowed for administrative overhead and at least 75 percent of $300,000 is allocated for student support. It is anticipated that the funding instrument will be a cooperative agreement since NOAA will be substantially involved in identifying NOAA facilities to place students each year during the three-year period of internships, and with collaboration, participation, or intervention in project performance.

Authority : 15 U.S.C. 1540.

Catalog of Federal Domestic Assistance: 11.481

Eligibility: Proposals will only be accepted from not-for-profit organizations.

Cost Sharing Requirements: None

Intergovernmental Review: Applications under this program are not subject to Executive Order 12372, “Intergovernmental Review of Federal Programs.”

Evaluation Criteria and Selection Procedures

NOAA published its agency-wide solicitation entitled "Omnibus Notice Announcing the Availability of Grant Funds for Fiscal Year 2006" for projects for Fiscal Year 2006 in the Federal Register on June 30, 2005 (70 FR 37766). The evaluation criteria and selection procedures for projects contained in that omnibus notice are applicable to this solicitation. Copies of this notice are available on the Internet at http://www.ofa.noaa.gov/%7Eamd/SOLINDEX.HTML. Further details on evaluation and selection criteria can be found in the full funding opportunity announcement.

Pre-award Activities

If applicants incur any costs prior to an award being made, they do so solely at their own risk of not being reimbursed by the Government. Notwithstanding any verbal assurance that may have been received, there is no obligation to the applicant on the part of Department of Commerce to cover pre-award costs.

Limitation of Liability

In no event will NOAA or the Department of Commerce accept responsibility for proposal preparation costs if these programs fail to receive funding or are cancelled because of other agency priorities. Publication of this announcement does not oblige NOAA to award any specific project or to obligate any available funds. Recipients and sub-recipients are subject to all Federal laws and agency policies, regulations and procedures applicable to Federal financial assistance awards.

National Environmental Policy Act (NEPA)

NOAA must analyze the potential environmental impacts, as required by the National Environmental Policy Act (NEPA), for applicant projects or proposals which are seeking NOAA Federal funding opportunities. Detailed information on NOAA compliance with NEPA can be found at the following NOAA NEPA website: (http://www.nepa.noaa.gov/), including our NOAA Administrative Order 216-6 for NEPA, http://www.nepa.noaa.gov/NAO216_6_TOC.pdf), and the Council on Environmental Quality implementation regulations, (http://ceq.eh.doe.gov/nepa/regs/ceq/toc_ceq.htm). Consequently, as part of an applicant's package, and under their description of their program activities, applicants are required to provide detailed information on the activities to be conducted, locations, sites, species and habitat to be affected, possible construction activities, and any environmental concerns that may exist (e.g., the use and disposal of hazardous or toxic chemicals introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for the denial of an application. In some cases if additional information is required after application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register Notice of December 30, 2004 (69 FR 78389) are applicable to this solicitation.

Paperwork Reduction Act (PRA)

This notification involves collection-of-information requirements subject to the Paperwork Reduction Act. The use of Standard Forms 424, 424A, 424B, and SF-LLL and CD-346 has been approved by the Office of Management and Budget (OMB) under control numbers 0348-0043, 0348-0044, 0348-0040 and 0348-0046 and 0605-0001, respectively. Notwithstanding any other provision of law, no person is required to respond to, nor shall any person be subject to a penalty for failure to comply with, a collection of information subject to the requirements of the PRA unless that collection of information displays a currently valid OMB control number.

Executive Order 1286

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared.

Dated: April 21, 2006.
William T. Hogarth,
Assistant Administrator, National Marine Fisheries Service.

[FR Doc. E6-6277 Filed 4-25-06; 8:45 am]

BILLING CODE 3510-12-S